DEPARTMENT OF VETERANS AFFAIRS

Joint Biomedical Laboratory Research and Development and Clinical Science Research and Development Services Scientific Merit Review Board; Notice of Meetings

The Department of Veterans Affairs (VA) gives notice under the Federal Advisory Committee Act, 5 U.S.C. App. 2, that the subcommittees of the Joint Biomedical Laboratory Research and Development and Clinical Science Research and Development Services Scientific Merit Review Board will meet from 8 a.m. to 5 p.m. on the dates indicated below (unless otherwise listed):

Subcommittee | Date | Location
Research Career Scientists & Promotions | May 9, 2016 | American College of Surgeons.
Nephrology | May 19, 2016 | Hilton Crystal City—Reagan National Airport.
Infectious Diseases-B | May 19, 2016 | Hilton Crystal City—Reagan National Airport.
Hematology | May 20, 2016 | American College of Surgeons.
Oncology-A/D | May 20, 2016 | Hilton Crystal City—Reagan National Airport.
Endocrinology-B | May 23, 2016 | Hilton Garden Inn—DC/US Capitol.
Cellular & Molecular Medicine | May 23, 2016 | Hilton Garden Inn—DC/US Capitol.
Oncology-B | May 23, 2016 | Hilton Garden Inn—DC/US Capitol.
Neurobiology-C | May 24, 2016 | Hilton Garden Inn—DC/US Capitol.
Surgery | May 25, 2016 | Hilton Garden Inn—DC/US Capitol.
Cardiovascular Studies-A | May 26, 2016 | Hilton Garden Inn—DC/US Capitol.
Infectious Diseases-A | May 26, 2016 | Hilton Garden Inn—DC/US Capitol.
Oncology-C | May 26, 2016 | Hilton Garden Inn—DC/US Capitol.
Immunology-A | June 1, 2016 | American College of Surgeons.
Neurobiology-F | June 1, 2016 | * VA Central Office.
Neurobiology-B | June 1, 2016 | Hilton Garden Inn—DC/US Capitol.
Oncology-E | June 1, 2016 | * VA Central Office.
Pulmonary Medicine | June 2, 2016 | American College of Surgeons.
Special Emphasis on Genomics | June 2, 2016 | * VA Central Office.
Gulf War Research | June 2, 2016 | * VA Central Office.
Neurobiology-A | June 3, 2016 | American College of Surgeons.
Neurobiology-D | June 3, 2016 | American College of Surgeons.
Endocrinology-A | June 3, 2016 | American College of Surgeons.
Neurobiology-R | June 6, 2016 | * VA Central Office.
Gastroenterology | June 7, 2016 | Hilton Garden Inn—DC/US Capitol.
Epidemiology | June 8, 2016 | * VA Central Office.
Mental Health and Behavioral Sciences-A | June 8, 2016 | Hilton Garden Inn—DC/US Capitol.
Cardiovascular Studies-B | June 9, 2016 | Hilton Garden Inn—DC/US Capitol.
Mental Health and Behavioral Sciences-B | June 9, 2016 | Hilton Garden Inn—DC/US Capitol.
Neurobiology-E | June 10, 2016 | American College of Surgeons
Eligibility | July 18, 2016 | American College of Surgeons.

The addresses of the meeting sites are:

American College of Surgeons, 20 F Street NW., Washington, DC

Hilton Crystal City—Reagan National Airport, 2399 Jefferson Davis Hwy., Arlington, VA

Hilton Garden Inn—Washington, DC/US Capitol, 1225 First Street NE., Washington, DC

Hyatt Regency Washington on Capitol Hill, 400 New Jersey Avenue NW., Washington, DC

Phoenix Park Hotel, 520 North Capitol Street NW., Washington, DC

VA Central Office, 1100 First Street NE., Suite 600, Washington, DC

* Teleconference

The purpose of the subcommittees is to provide advice on the scientific quality, budget, safety, and mission relevance of investigator-initiated research proposals submitted for VA merit review evaluation. Proposals submitted for review include diverse medical specialties within the general areas of biomedical, behavioral, and clinical science research.

These subcommittee meetings will be closed to the public for the review, discussion, and evaluation of initial and renewal research proposals, which involve reference to staff and consultant critiques of research proposals. Discussions will deal with scientific merit of each proposal and qualifications of personnel conducting the studies, the disclosure of which would constitute a clearly unwarranted invasion of personal privacy. Additionally, premature disclosure of research information could significantly frustrate implementation of proposed agency action regarding the research proposals. As provided by subsection 10(d) of Public Law 92-463, as amended by Public Law 94-409, closing the subcommittee meetings is in accordance with Title 5 U.S.C. 552b(c)(6) and (9)(B).

Those who would like to obtain a copy of the minutes from the closed subcommittee meetings and rosters of the subcommittee members should contact Holly Krull, Ph.D., Manager, Merit Review Program (10P9B), Department of Veterans Affairs, 810 Vermont Avenue NW., Washington, DC 20420, at (202) 632-8522 or by email at holly.krull@va.gov.

By Direction of the Secretary.
Dated: April 13, 2016.
Jeffrey M. Martin,
Program Manager, Regulation Policy and Management, Office of the General Counsel.

[FR Doc. 2016-08855 Filed 4-15-16; 8:45 am]

BILLING CODE 8320-01-P